DEPARTMENT OF LABOR

Employment and Training Administration

Tribal Consultation; Federal-State Unemployment Compensation (UC) Program; Confidentiality and Disclosure of State UC Information

AGENCY: Employment and Training Administration, Department of Labor.

ACTION: Notice of Tribal Consultation; virtual meeting.

SUMMARY: The Department of Labor (Department) is announcing that it will conduct a virtual Tribal Consultation in order to obtain input from federally recognized Indian tribes as the Department is considering making a change to the definition of public official to include Tribal Officials as part of the UC confidentiality and disclosure regulations.

DATES: This Tribal Consultation meeting will take place on Monday, August 28, 2023, at 2:00 p.m. ET.

ADDRESSES: This virtual meeting will be accessible to the public as a webinar on WorkforceGPS, an online technical assistance platform sponsored by the Employment and Training Administration. To participate in a WorkforceGPS webinar, individuals must register as a member the Workforce GPS platform in advance of the webinar. To become a WorkforceGPS member, please access the registration page at https://www.workforcegps.org/register and enter the required information. Registration information for this Tribal Consultation can be found on https://www.workforcegps.org/events.

FOR FURTHER INFORMATION CONTACT: Randy Painter, Director, Division of Policy, Legislation, and Regulations, Office of Policy Development and Research, Employment and Training Administration at (202) 693-3979.

SUPPLEMENTARY INFORMATION: The purpose of this Tribal Consultation is to allow the Department to learn more about the effects, benefits, and costs that may result from changing the definition of public official in 20 CFR part 603. This part applies to States and State UC agencies, as defined in § 603.2(f) and (g). The Department is exploring potential rulemaking changes, to include expanding the definition of public official to include Tribal Officials, as well as other potential changes. The Department wants to explore the implications for federally recognized Indian tribes as the Department determines the most appropriate changes to propose. The Department has issued a Request for Information (RFI) that was published in the Federal Register on July 25, 2023 (88 FR 47829) as part of its pre-rulemaking activities.

The Department, through this initial Tribal Consultation, is initiating the Tribal Consultation process by announcing the publication of an RFI regarding the Federal UC law concerning confidentiality and disclosure of UC information. In addition, Executive Order 13175, Consultation and Coordination with Indian Tribal Governments (65 FR 67249), and the Department's Tribal Consultation Policy (77 FR 71833) require the Department to solicit input from Tribal officials in the development of Federal policies that have Tribal implications. Accordingly, this Tribal Consultation seeks to provide Tribes with an opportunity to provide input as the Department explores the effects, benefits, and costs of a potential change and/or modification to the definition of a public official in § 603.2(d), which could have implications for all federally recognized Indian tribes.

Brent Parton,
Principal Deputy Assistant Secretary for Employment and Training, Labor.

[FR Doc. 2023-16997 Filed 8-8-23; 8:45 am]

BILLING CODE 4510-FW-P